FEDERAL COMMUNICATIONS COMMISSION

Notice of Public Information Collection(s) Being Reviewed by the Federal Communications Commission for Extension Under Delegated Authority, Comments Requested

April 21, 2010.

SUMMARY: The Federal Communications Commission, as part of its continuing effort to reduce paperwork burden, invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before July 12, 2010. If you anticipate that you will be submitting PRA comments, but find it difficult to do so within the period of time allowed by this notice, you should advise the FCC contact listed below as soon as possible.

ADDRESSES: Direct all PRA comments to Nicholas A. Fraser, Office of Management and Budget (OMB), via fax at 202-395-5167, or via the Internet at: Nicholas_A._Fraser@omb.eop.gov, and to the Federal Communications Commission (FCC) via email at: PRA@fcc.gov.

FOR FURTHER INFORMATION CONTACT: Leslie F. Smith, Office of Managing Director, (202) 418-0217. For additional information, contact Leslie F. Smith, 202-418-0217, or via the Internet at: PRA@fcc.gov.

SUPPLEMENTARY INFORMATION: OMB Control Number: 3060-0655.

Title: Requests for Waivers of Regulatory Fees and Application Fees.

Form Number: N/A.

Type of Review: Extension of a currently approved collection.

Respondents: Businesses or other for-profits.

Number of Respondents and Responses: 240 respondents; 240 responses.

Estimated Time Per Response: 1.0 hours.

Frequency of Response: On occasion reporting requirements.

Obligation to Respond: Required to obtain or retain benefits. Statutory authority for this information collection is contained in 47 U.S.C. 158 and 47 U.S.C 159.

Total Annual Burden: 240 hours.

Total Annual Cost: $0.00.

Privacy Act Impact Assessment: No impacts.

Nature and Extent of Confidentiality: Parties filing information may request that the information be withheld from disclosure. Requests for confidentiality are processed in accordance with FCC rules under 47 CFR § 0.459. This information collection does not affect individuals; however, should any personally identifiable information (PII) be submitted, the FCC has a system of records, FCC/OMD-9, “Commission Registration System (CORES),” to cover the collection, use, storage, and destruction of this PII, as required by the Privacy Act of 1974, as amended, 5 U.S.C. 552a.

Needs and Uses: Pursuant to 47 U.S.C. 158 and 47 U.S.C. 159, the FCC is required to collect application fees and annual regulatory fees from its licensees and permittees. Licensees and permittees may request waivers of these fees where good cause is shown and where waiver or deferral of the fee would promote the public interest. Financial information and reports that are submitted to support waiver requests are ordinarily maintained as business records and can be easily assembled. The FCC uses the information submitted in support of the waiver request to determine if such waiver is warranted.

Federal Communications Commission.
Marlene H. Dortch,
Secretary,
Office of the Secretary,
Office of Managing Director.

[FR Doc. 2010-11128 Filed 5-10-10; 8:45 am]

BILLING CODE 6712-01-S